DEPARTMENT OF COMMERCE

National Oceanic and Atmospheric Administration

50 CFR Part 665

RIN 0648-BJ27

Pacific Island Fisheries; Sea Turtle Limits in the Hawaii Shallow-Set Pelagic Longline Fishery

AGENCY: National Marine Fisheries Service (NMFS), National Oceanic and Atmospheric Administration (NOAA), Commerce.

ACTION: Notice of availability of a fishery ecosystem plan amendment; request for comments.

SUMMARY: NMFS announces that the Western Pacific Fishery Management Council (Council) proposes to amend the Fishery Ecosystem Plan for the Pelagic Fisheries of the Western Pacific (FEP). Amendment 10 would facilitate management of Hawaii shallow-set longline fishery interactions with sea turtles to ensure a continued supply of fresh domestic swordfish to U.S. markets, consistent with sea turtle conservation. The proposed action would also ensure that the fishery operates in compliance with the Reasonable and Prudent Measures (RPM) and associated Terms and Conditions (T&C) of a recent NMFS biological opinion (BiOp).

DATES: NMFS must receive comments on the proposed amendments by March 23, 2020.

ADDRESSES: You may submit comments on this document, identified by NOAA-NMFS-2019-0098, by either of the following methods:

• Electronic Submission: Submit all electronic public comments via the Federal e-Rulemaking Portal. Go to http://www.regulations.gov/#!docketDetail;D=NOAA-NMFS-2019-0098, click the “Comment Now!” icon, complete the required fields, and enter or attach your comments.

• Mail: Send written comments to Michael D. Tosatto, Regional Administrator, NMFS Pacific Islands Region (PIR), 1845 Wasp Blvd. Bldg. 176, Honolulu, HI 96818.

Instructions: NMFS may not consider comments sent by any other method, to any other address or individual, or received after the end of the comment period. All comments received are a part of the public record, and NMFS will generally post them for public viewing on www.regulations.gov without change. All personal identifying information (e.g., name, address, etc.), confidential business information, or otherwise sensitive information submitted voluntarily by the sender will be publicly accessible. NMFS will accept anonymous comments (enter “N/A” in the required fields if you wish to remain anonymous).

The Council prepared Amendment 10, including an environmental assessment (EA) and regulatory impact review (RIR). Amendment 10 and supporting documents are available at https://www.regulations.gov, or from the Council, 1164 Bishop St., Suite 1400, Honolulu, HI 96813, tel 808-522-8220, fax 808-522-8226, www.wpcouncil.org.

FOR FURTHER INFORMATION CONTACT: Joshua Lee, Sustainable Fisheries, NMFS PIR, 808-725-5177.

SUPPLEMENTARY INFORMATION: The Hawaii shallow-set pelagic longline fishery targets swordfish (Xiphias gladius) in the U.S. Exclusive Economic Zone and on the high seas. The Council and NMFS manage the fishery under the FEP and its implementing regulations, as authorized by the Magnuson-Stevens Fishery Conservation and Management Act. The Council proposes to amend the FEP to revise the annual fleet interaction limit (“hard cap”) for leatherback turtles from 26 to 16. If the fleet reaches the limit, NMFS would close the fishery for the remainder of the calendar year. The Council proposes to remove the hard cap for North Pacific loggerhead turtles (currently 17).

Amendment 10 would also establish trip interaction limits of two leatherback turtles and five North Pacific loggerhead turtles. If a vessel reaches either limit on a shallow-set trip, NMFS would require the vessel to stop fishing and return to port. The first time a vessel reaches the limit for either species, it would be prohibited from shallow-set fishing for five days. If a vessel reaches an interaction limit a second time for either species in a calendar year, NMFS would prohibit that vessel from shallow-set fishing for the remainder of that calendar year. In the following year, that vessel would have an annual hard cap limit of two leatherback or five loggerhead turtles.

Amendment 10 would ensure consistency with the reasonable and prudent measures and terms and conditions of the 2019 BiOp that NMFS completed for this fishery, while maintaining fishing opportunities during peak swordfish season (October through March). This action is needed to provide managers and the fishery with the necessary tools to respond to and mitigate fluctuations in loggerhead and leatherback turtle interactions, to ensure a continued supply of fresh swordfish to U.S. markets consistent with the conservation needs of these sea turtles.

NMFS must receive comments on Amendment 10 by March 23, 2020 for consideration in the decision to approve, partially approve, or disapprove the amendment. NMFS soon expects to publish and request public comment on a proposed rule that would implement the measures recommended in Amendment 10.

Authority: 16 U.S.C. 1801 et seq.

Dated: January 15, 2020.
Samuel D. Rauch III,
Deputy Assistant Administrator for Regulatory Programs, National Marine Fisheries Service.

[FR Doc. 2020-00879 Filed 1-22-20; 8:45 am]

BILLING CODE 3510-22-P